DEPARTMENT OF COMMERCE

INTERNATIONAL TRADE ADMINISTRATION

[A-583-831]

Stainless Steel Sheet and Strip in Coils from Taiwan; Partial Rescission of Antidumping Duty Administrative Review and Notice of Extension of Time Limits for Preliminary Results of Antidumping Duty Administrative Review

AGENCY: Import Administration, International Trade Administration, Department of Commerce.

EFFECTIVE DATE: March 27, 2008.

FOR FURTHER INFORMATION CONTACT: Henry Almond, AD/CVD Operations, Office 2, Import Administration, International Trade Administration, U.S. Department of Commerce, 14th Street and Constitution Avenue, NW, Washington, DC 20230; telephone: (202) 482-0049.

SUPPLEMENTARY INFORMATION:

Background

On July 3, 2007, the Department of Commerce (the Department) published a notice in the Federal Register of opportunity to request administrative review of the antidumping duty order on stainless steel sheet and strip in coils from Taiwan. See Antidumping or Countervailing Duty Order, Finding, or Suspended Investigation; Opportunity to Request Administrative Review, 72 FR 36420 (July 3, 2007). On July 31, 2007, in accordance with 19 CFR 351.213(b)(1), the petitioners¹ requested an administrative review with respect to 15 producers/exporters of subject merchandise. The Department received no other requests for review.

¹ The petitioners in this proceeding are Allegheny Ludlum Corporation, AK Steel Corporation, North American Stainless, United Auto Workers Local 3303, United Steelworkers of America, AFL-CIO/CLC, and Zanesville Armco Independent Organization.

On August 24, 2007, the Department published a notice of initiation of administrative review of the antidumping duty order on stainless steel sheet and strip in coils from Taiwan. See Initiation of Antidumping and Countervailing Duty Administrative Reviews and Requests for Revocation in Part, 72 FR 48613 (Aug. 24, 2007). The period of review is July 1, 2006, through June 30, 2007, and the review covers 15 producers/exporters of the subject merchandise to the United States. The preliminary results are currently due no later than April 1, 2008.

Partial Rescission of Review

On October 11, 2007, the petitioners withdrew their request for administrative review with respect to each of the following companies within the time limits set forth in 19 CFR 351.213(d)(1): 1) China Steel Corporation; 2) Tang Eng Iron Works; 3) PFP Taiwan Co., Ltd.; 4) Yieh Loong Enterprise Co., Ltd. (also known as Chung Hung Steel Co., Ltd.); 5) Yieh Trading Corp.; 6) Goang Jau Shing Enterprise Co., Ltd.; 7) Yieh Mau Corp.; 8) Chien Shing Stainless Co.; 9) Chain Chon Industrial Co., Ltd.; 10) Emerdex Stainless Flat-Rolled Products, Inc.; 11) Emerdex Stainless Steel, Inc.; and 12) Emerdex Group (and its various affiliates). Section 351.213(d)(1) of the Department's regulations requires that the Secretary rescind an administrative review if a party requesting a review withdraws the request within 90 days of the date of publication of the notice of initiation. Therefore, in accordance with 19 CFR 351.213(d)(1), because the request for administrative review with respect to the companies listed above was timely withdrawn, we are rescinding this review with regard to those companies.

Extension of Time Limit for Preliminary Results

Pursuant to section 751(a)(3)(A) of Tariff Act of 1930, as amended (the Act), the Department shall make a preliminary determination in an administrative review of an antidumping order within 245 days after the last day of the anniversary month of the date of publication of the order. Section 751(a)(3)(A) of the Act further provides, however, that the Department may extend the 245-day period to 365 days if it determines it is not practicable to complete the review within the foregoing time period. We determine that it is not practicable to complete this administrative review within the time limits mandated by section 751(a)(3)(A) of the Act because we require additional time to analyze the data submitted by the companies participating in this review and issue supplemental questionnaires to them. Therefore, we have fully extended the deadline for completing the preliminary results until July 30, 2008, which is 365 days from the last day of the anniversary month of the date of publication of the order. The deadline for the final results of the review continues to be 120 days after the publication of the preliminary results.

This notice is published in accordance with sections 751(a)(3)(A) and 777(i) of the Act.

Dated: March 21, 2008.
Stephen J. Claeys,
Deputy Assistant Secretary for Import Administration.

[FR Doc. E8-6268 Filed 3-26-08; 8:45 am]

BILLING CODE 3510-DS-S